DEPARTMENT OF JUSTICE

Parole Commission

[5 U.S.C. Section 552b]

Meetings; Sunshine Act; Public Announcement Pursuant to the Government in the Sunshine Act Public Law 94-409

AGENCY HOLDING MEETING: Department of Justice, United States Parole Commission.

DATE AND TIME: 10 a.m., Thursday, February 17, 2011.

PLACE: U.S. Parole Commission, 5550 Friendship Boulevard, 4th Floor, Chevy Chase, Maryland 20815.

STATUS: Closed.

MATTERS CONSIDERED: The following matter will be considered during the closed meeting: Discussion of an original jurisdiction case pursuant to 28 CFR 2.17.

AGENCY CONTACT: Patricia W. Moore, Staff Assistant to the Chairman, United States Parole Commission, (301) 492-5933.

Dated: February 15, 2011,
Rockne Chickinell,
General Counsel, U.S. Parole Commission.

[FR Doc. 2011-3902 Filed 2-22-11; 8:45 am]

BILLING CODE 4410-31-M